DEPARTMENT OF THE INTERIOR

Bureau of Land Management

[LLIDI01000-10-L12200000.AL0000]

Notice of Temporary Closure for Lands West of North Menan Butte, Idaho

AGENCY: Bureau of Land Management; Idaho Falls District, Upper Snake Field Office, Idaho.

ACTION: Temporary closure.

SUMMARY: Notice is hereby given that a temporary closure will apply to approximately 1,800 acres of public lands administered by the Bureau of Land Management (BLM) Upper Snake Field Office, Idaho. This same area has been closed to target shooting and full-size vehicles for the past 3 years to prevent illegal dumping and littering, including hazardous materials. This closure will be in effect for 24 months, to allow completion of a resource management plan (RMP), which will provide permanent management direction for the area. During the temporary closure, the 1,800 acres will continue to be open to human entry by foot and by horse. Off-road vehicles are allowed entry but will be required to stay on developed roads and trails. Any person who fails to comply with a closure or restriction order issued under this authority may be subject to the penalties described in 43 CFR8360.0-7.

DATES: This temporary closure will be effective on the date this notice is published in the Federal Register and will remain in effect for 24 months from the date of publication or until rescinded or modified by the authorized officer or designated Federal officer.

FOR FURTHER INFORMATION CONTACT: The Upper Snake Field Office, 1405 Hollipark Drive, Idaho Falls, Idaho 83401 or call (208) 524-7500. By mail: Field Manager, Upper Snake Field Office, Bureau of Land Management, 1405 Hollipark Drive, Idaho Falls, Idaho 83401.

SUPPLEMENTARY INFORMATION: Annually, the BLM buries or removes between 20 and 50 dumped dead animals and approximately 10 tons of solid waste from public lands near North Menan Butte, a National Natural Landmark and an Area of Critical Environmental Concern. The waste originates when the public brings propane tanks, hot water heaters, computers, televisions, washers, dryers, car batteries, paint cans, and other waste objects and leaves them on the public lands. Target shooters shoot at this waste, leaving shell casings littering the landscape. This area is now a health and safety hazard due to the dumping, shooting, and the potential for disease transmission from uncovered dead animal carcasses. This waste has also included hazardous materials in recent years. During the temporary closure, the 1,800 acres will continue to be open to human entry by foot and by horse. Off-road vehicles are allowed entry but will be required to stay on developed roads and trails.

The following public lands are included in the closure:

Boise Meridian, Idaho

T. 6 N., R. 38 E.,

Section 27 (all) in Madison County,

Sections 28 (parts) in Jefferson County, and

T. 5 N., R. 38 E.,

Sections 4 (all) and 5 (parts) in Jefferson County.

Sections 28 (parts) in Jefferson County, and

T. 5 N., R. 38 E.,

Sections 4 (all) and 5 (parts) in Jefferson County.

Signs will be placed on the highway and at the site explaining the road and target shooting closures. Fences and road barriers will be maintained that allow for continued access by off-highway vehicles, motorcycles, equestrian use, and foot traffic in the southern portion. The closure order and related map will also be posted at the Upper Snake River Field Office, 1405 Hollipark Drive, Idaho Falls, Idaho 83401, and can also be viewed online at: http://www.blm.gov/id/st/en/fo/upper_snake.html. This closure is established and administered by the BLM under the authority of 43 CFR 8360, and complies with 43 CFR 8364.1 (Closures and Restrictions).

Exemptions: Persons who are exempt from this restriction include any Federal, State or local officer or employee acting within the scope of their duties; members of any organized rescue or fire-fighting force in the performance of an official duty; and any person holding written authorization from the BLM.

Penalties: Under Section 303(a) of the Federal Land Policy and Management Act of 1976 (43 U.S.C. 1733(a)) and 43 CFR 8360.0-7, any person who fails to comply with this closure may be tried before a United States Magistrate and fined up to $1,000 or imprisoned for no more than 12 months. Violators may also be subject to the enhanced fines provided for in 18 U.S.C. 3571.

Wendy Reynolds,
Field Manager, Upper Snake Field Office, Bureau of Land Management.

[FR Doc. 2010-22079 Filed 9-2-10; 8:45 am]

BILLING CODE 4310-GG-P